DEPARTMENT OF AGRICULTURE

Animal and Plant Health Inspection Service

[Docket No. APHIS-2020-0061]

Notice of Availability of a Pest Risk Analysis for the Importation of Fresh Mango Fruit From Colombia Into the United States

AGENCY: Animal and Plant Health Inspection Service, USDA.

ACTION: Notice of availability.

SUMMARY: We are advising the public that we have prepared a pest risk analysis that evaluates the risks associated with importation of fresh mango fruit from Colombia into the United States. Based on the analysis, we have determined that the application of one or more designated phytosanitary measures will be sufficient to mitigate the risks of introducing or disseminating plant pests or noxious weeds via the importation of fresh mango fruit from Colombia. We are making the pest risk analysis available to the public for review and comment.

DATES: We will consider all comments that we receive on or before July 12, 2021.

ADDRESSES: You may submit comments by either of the following methods:

• Federal eRulemaking Portal: Go to www.regulations.gov. Enter APHIS-2020-0061 in the Search field.

• Postal Mail/Commercial Delivery: Send your comment to Docket No. APHIS-2020-0061, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, Regulatory Coordination and Compliance, Imports, Regulations, and Manuals, PPQ, APHIS, 4700 River Road, Unit 133, Riverdale, MD 20737-1231; (301) 851-2352; claudia.ferguson@usda.gov.

SUPPLEMENTARY INFORMATION:

Background

Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 contains a performance-based process for approving the importation of fruits and vegetables that, based on the findings of a pest risk analysis, can be safely imported subject to one or more of the five designated phytosanitary measures listed in paragraph (b) of that section.

APHIS received a request from the national plant protection organization (NPPO) of Colombia to allow fresh mango (Mangifera indica L.) fruit into the United States. As part of our evaluation of Colombia's request, we have prepared a pest risk assessment (PRA) to identify pests of quarantine significance that could follow the pathway of importation of fresh mango fruit into the United States from Colombia. Based on the PRA, a risk management document (RMD) was prepared to identify phytosanitary measures that could be applied to the fresh mango fruit to mitigate the pest risk.

We have concluded that fresh mango fruit can be safely imported from Colombia into the United States, using one or more of the five designated phytosanitary measures listed in § 319.56-4(b). The NPPO of Colombia would have to enter into an operational workplan with APHIS that spells out the daily procedures the NPPO will take to implement the measures identified in the RMD. These measures will be listed in APHIS' Fruits and Vegetables Import Requirements (FAVIR) database, available at https://epermits.aphis.usda.gov/manual/.

The mitigation measures identified in the RMD include the following:

• Only commercial consignments of mango fruit may be imported.

• All growers must be registered with the NPPO and follow operational workplan requirements for suppression of fruit flies.

• The NPPO must monitor the system for inspection, packing, wrapping, transportation, and loading of the commodity and ensure that participating growers are following the program guidelines.

• Packinghouses must be registered and approved by the NPPO and meet the requirements listed in the operational workplan.

• The NPPO is expected to maintain program records for at least 1 year and provide them to APHIS upon request.

• The NPPO or its designate must conduct a fruit fly trapping program for the detection of Anastrepha spp. and Medfly (Ceratitis capitata) at each production site. Details of trap placement, checking of traps, trap density, and remedial fruit fly control measures will be included in the operational workplan. The NPPO must maintain an APHIS-approved quality control program to monitor or audit the trapping program and maintain records of trap placement, checking of traps, and any fruit fly captures. The trapping records must be maintained for at least 1 year and provided to APHIS upon request.

• The mangos must be treated with an APHIS-approved treatment for Anastrepha spp. fruit flies and Medfly (Ceratitis capitata). Either:

• Hot water treatment, T102-a, which is only available for use in a preclearance program in accordance with 7 CFR part 305. Each consignment of fruit treated with the APHIS-approved hot water treatment must be precleared by APHIS inspectors in Colombia. The treatment must be carried out under the supervision and direction of APHIS and each consignment must be inspected jointly by APHIS and the NPPO. Treatment must occur in a pest-exclusionary treatment facility; or

• Irradiation treatment, T105-a-1, which requires the fruit to be irradiated with a minimum absorbed dose of 150 Gray for fruit flies and follow the requirements of part 305. If the approved irradiation treatment is applied outside the United States, each consignment of fruit must be precleared by APHIS inspectors in Colombia. Treatment must occur in a pest-exclusionary treatment facility or, if irradiation is to be applied upon arrival in the United States, each consignment of fruit must be inspected by the NPPO prior to departure and accompanied by a phytosanitary certificate issued by the NPPO. Mangos intended to be irradiated in the United States must be shipped in APHIS-approved packaging that prevents escape of any Anastrepha spp. or Medfly larvae or adults.

• All hot water or irradiation treatment facilities in Colombia to be used for mangos are subject to APHIS approval. APHIS reserves the right to require oversight visits in the event of pest interceptions or other problems.

• Mango fruit must be safeguarded from exposure to Anastrepha spp. or Medfly from the time of treatment to export. The package containing mango fruit may not contain any other fruit, including mango fruit not qualified for importation into the United States.

• Each consignment must be inspected jointly by inspectors from APHIS and the NPPO and accompanied by a phytosanitary certificate issued by the NPPO.

• If more than one Ceratitis capitata or Anastrepha spp. or one Neosilba glaberrima is detected in a consignment, the consignment may not be exported to the United States.

• Each consignment is subject to inspection at the U.S. ports of entry.

In addition to these specific measures, fresh mango fruit from Colombia would be subject to the general requirements listed in § 319.56-3 that are applicable to the importation of all fruits and vegetables.

Therefore, in accordance with § 319.56-4(c), we are announcing the availability of our PRA and RMD for public review and comment. Those documents, as well as a description of the economic considerations associated with the importation of fresh mango fruit from Colombia, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding the import status of fresh mango fruit from Colombia in a subsequent notice. If the overall conclusions of our analysis and the Administrator's determination of risk remain unchanged following our consideration of the comments, then we will authorize the importation of fresh mango fruit from Colombia into the United States subject to the requirements specified in the RMD.

Authority: 7 U.S.C. 1633, 7701-7772, and 7781-7786; 21 U.S.C. 136 and 136a; 7 CFR 2.22, 2.80, and 371.3.

Done in Washington, DC, this 7th day of May 2021.
Mark Davidson,
Administrator, Animal and Plant Health Inspection Service.

[FR Doc. 2021-10042 Filed 5-11-21; 8:45 am]

BILLING CODE 3410-34-P